ARCHITECTURAL AND TRANSPORTATION BARRIERS COMPLIANCE BOARD

36 CFR Part 1151

Bylaws

AGENCY: Architectural and Transportation Barriers Compliance Board.

ACTION: Final rule.

SUMMARY: The Architectural and Transportation Barriers Compliance Board (Access Board) has adopted an amendment to its bylaws. The amendment was adopted to update and improve the Board's operations.

DATES: This rule is effective June 8, 2006.

FOR FURTHER INFORMATION CONTACT: Lisa Fairhall, Access Board, 1331 F Street, NW., Suite 1000, Washington, DC 20004-1111. Telephone number 202-272-0046 (voice); 202-272-0082 (TTY). E-mail address: Fairhall@access-board.gov.

SUPPLEMENTARY INFORMATION: In March 2006, the Access Board amended its bylaws to codify its practice of electing Vice-Chairs for subject matter committees. This amendment was adopted to update and improve the Board's operating procedures. Because the amendment is to the Board's internal rules of organization, procedure, or practice, advance notice and opportunity for public comment are not required by the Administrative Procedures Act (section 553(b)). The amendment is being published so that all interested persons will be fully informed about the procedures governing the Access Board.

List of Subjects in 36 CFR Part 1151

Authority delegations (Government agencies), Organization and functions (Government agencies).

Authorized by vote of the Access Board on March 15, 2006.
David L. Bibb,
Chairperson, Architectural and Transportation Barriers Compliance Board.

Pursuant to 29 U.S.C. 792, as amended, and for the reasons set forth in the preamble, chapter XI of title 36 of the Code of Federal Regulations is amended as follows:

PART 1151—BYLAWS

1. The authority citation for part 1151 continues to read as follows:

Authority: 29 U.S.C. 792.

2. Revise paragraph (b)(2) of § 1151.6 to read as follows:

§ 1151.6 Committees.

* * * * *

(b) * * *

(2) Chair, Vice-Chair. The Chair and Vice-Chair of a subject matter committee shall be elected by the Board after the election of the Chair and Vice-Chair of the Board. The Chair of a subject matter committee shall serve as a member of the Board's Executive Committee.

* * * * *

[FR Doc. E6-8887 Filed 6-7-06; 8:45 am]

BILLING CODE 8150-01-P